Title 3—

The President

Memorandum of May 6, 2003

Delegation of the Functions of the President Under the Heading “Iraq Relief and Reconstruction Fund” in the Emergency Wartime Supplemental Appropriations Act, 2003

Memorandum for the Secretary of State[,] the Secretary of Defense[, and] the Director of the Office of Managment and Budget

The functions of the President under the heading “Iraq Relief and Reconstruction Fund” in the Emergency Wartime Supplemental Appropriations Act, 2003 (Public Law 108-11), including with respect to apportionment, reimbursement, consultation, transfer of funds, retransfer of funds, and acceptance and crediting of contributions, are assigned to the Director of the Office of Management and Budget (OMB).

In accordance with Presidential direction relating to Iraq relief and reconstruction, multiple agencies are deployed with the Office of Reconstruction and Humanitarian Assistance (ORHA) and are serving as implementing partners or executing agents for programs and projects. These agencies will identify funding requirements for such programs and projects through ORHA. OMB will work with ORHA to transfer funds to the appropriate implementing agency. The Director of OMB shall coordinate with the Secretary of Defense or his designee prior to apportioning funds. With respect to programs administered by the Department of State or the United States Agency for International Development, the Director of OMB shall coordinate with the Secretary of State or his designee prior to apportioning funds.

The Director of the Office of Management and Budget is authorized and directed to publish this Memorandum in the Federal Register.

B

THE WHITE HOUSE,

Washington, May 6, 2003.

[FR Doc. 03-11842

Filed 5-8-03; 10:40 am]

Billing code 3110-01-M